DEPARTMENT OF TRANSPORTATION

Office of the Secretary

Reports, Forms and Recordkeeping Requirements; Agency Information Collection Activity Under OMB Review

AGENCY: Office of the Secretary, DOT.

ACTION: Notice and request for comments.

SUMMARY: In accordance with the Paperwork Reduction Act of 1995 (44 U.S.C. Chapter 35, as amended), this notice announces the Department of Transportation's (DOT) intention to request the extension of a previously approved collection.

DATES: Comments on this notice must be received by October 4, 2001 to: Attention DOT/OST Desk Officer, Office of Information and Regulatory Affairs, Office of Management and Budget, Docket Library, Room 10102, 725 17th Street, NW., Washington, DC 20503.

FOR FURTHER INFORMATION CONTACT: Mr. James E. Ware, US Department of Transportation, (202) 366-2019, 400 Seventh Street, SW., Washington, DC 20590.

SUPPLEMENTARY INFORMATION:

Office of the Secretary

Title: Relocation Assistance and Real Property Acquisition Regulations For Federal and Federally Assisted Programs.

OMB Control Number: 2105-0508.

Affected Public: Federal Government State, Local or Tribal Government, individuals, business, farms and not-for-profit institutions.

Annual Estimated Burden: 29,043.

Comments are invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued in Washington, DC on August 28, 2001.
Michael Robinson,
Information Resource Management, United States Department of Transportation.

[FR Doc. 01-22157 Filed 8-31-01; 8:45 am]

BILLING CODE 4910-62-P